DEPARTMENT OF HEALTH AND HUMAN SERVICES

Administration for Children and Families

Submission for OMB Review; Comment Request

Title: National Center on Early Head Start-Child Care Partnerships (NCEHS-CCP) Evaluation.

OMB No.: New Collection.

Description: The Administration for Children and Families (ACF) in the Department of Health and Human Services (HHS) has awarded 275 Early Head Start expansion and Early Head Start-child care partnership grants (EHS-CCP) in 50 states; Washington, DC; Puerto Rico; and the Northern Mariana Islands. These grants will allow new or existing Early Head Start programs to partner with local child care centers and family child care providers to expand high-quality early learning opportunities for infants and toddlers from low-income families.

NCEHS-CCP will support the effective implementation of new EHS-CCP grants by disseminating information through training and technical assistance (T/TA) and resources and materials. NCEHS-CCP is primarily targeted to T/TA providers working directly with the EHS-CCP grantees (including Office of Head Start (OHS) and Office of Child Care (OCC) National Centers, regional training and technical assistance (T/TA) specialists, and implementation planners and fiscal consultants). State and federal agencies (including OHS and OCC federal staff, Child Care and Development Fund (CCDF) administrators, Head Start state and national collaboration office directors), as well as EHS-CCP grantees will also find helpful information on partnerships through NCEHS-CCP's resources.

NCEHS-CCP at ZERO TO THREE is proposing to conduct a descriptive study of NCEHS-CCP that will provide information that will document the activities and progress of NCEHS-CCP toward its goals and objectives. Findings from the evaluation will be translated into action steps to inform continuous quality improvement of NCEHS-CCP.

The proposed data collection activities for the descriptive study of NCEHS-CCP will include the following components:

• Stakeholder survey. Web-based surveys will be conducted in the spring of 2016 and 2018 with key stakeholders (including regional T/TA specialists, CCDF administrators, Head Start state and national collaboration office directors, and implementation planners and fiscal consultants). The stakeholder survey will collect information about the types of support they received from NCEHS-CCP in the past year, their satisfaction with the support, how the T/TA informed their work with EHS-CCP grantees, and how support could be improved.

• Stakeholder telephone interviews. Semi-structured telephone interviews will be conducted in spring of 2017 and 2019 with a purposively selected group of stakeholders that complete the stakeholder survey. The interviews will explore in more detail the types of T/TA support participants received from NCEHS-CCP, how that support has informed their work with EHS-CCP grantees, their satisfaction with the support, successes and challenges, and suggestions for improvement.

A 60-Day Federal Register Notice was published for this study on October 27, 2015. This 30-Day Federal Register Notice covers the following data collection activities: (1) Stakeholder survey, and (4) stakeholder telephone interviews.

Respondents: Respondents include regional T/TA specialists, CCDF administrators, Head Start state and national collaboration office directors, and implementation planners and fiscal consultants.

Annual Burden Estimates
Instrument | Number of respondents | Annual number of responses per respondent | Number of responses per respondent | Average burden hours per response | Total burden hours
Stakeholder survey | 350 | 1 | 2 | 0.5 | 175
Stakeholder telephone interviews | 150 | 1 | 1 | 1.0 | 75

Estimated Total Annual Burden Hours: 250.

Additional Information: Copies of the proposed collection may be obtained by writing to the Administration for Children and Families, Office of Planning, Research and Evaluation, 330 C Street SW., Washington, DC 20201. Attention Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2016-02351 Filed 2-5-16; 8:45 am]

BILLING CODE 4184-01-P